DEPARTMENT OF THE INTERIOR

Fish and Wildlife Service

[FWS-R7-ES-2017-N181; FF07CAMM00-FX-ES111607MRG01]

Marine Mammals; Letters of Authorization To Take Pacific Walrus and Polar Bears in the Beaufort and Chukchi Seas, Alaska

AGENCY: Fish and Wildlife Service, Interior.

ACTION: Notice of issuance.

SUMMARY: In accordance with the Marine Mammal Protection Act of 1972, as amended, the U.S. Fish and Wildlife Service has issued Letters of Authorization for the nonlethal take of polar bears and Pacific walruses incidental to oil and gas industry exploration, development, and production activities in the Beaufort Sea and the adjacent northern coast of Alaska and incidental to oil and gas industry exploration activities in the Chukchi Sea and the adjacent western coast of Alaska. These Letters of Authorization stipulate conditions and methods that minimize impacts to polar bears and Pacific walruses from these activities.

ADDRESSES: These letters of authorization are available electronically at the following location: http://www.fws.gov/alaska/fisheries/mmm/itr.htm.

FOR FURTHER INFORMATION CONTACT: Mr. Christopher Putnam at the U.S. Fish and Wildlife Service, Marine Mammals Management Office, 1011 East Tudor Road, MS 341, Anchorage, Alaska 99503; (800) 362-5148 or (907) 786-3844.

SUPPLEMENTARY INFORMATION: On August 5, 2016, the U.S. Fish and Wildlife Service published in the Federal Register a final rule (81 FR 52276) establishing regulations that allow us to authorize the nonlethal, incidental, unintentional take of small numbers of polar bears (Ursus maritimus) and Pacific walruses (Odobenus rosmarus divergens) during year-round oil and gas industry exploration, development, and production activities in the Beaufort Sea and adjacent northern coast of Alaska. The rule established subpart J in part 18 of title 50 of the Code of Federal Regulations (CFR) and is effective through August 5, 2021. The rule prescribed a process under which we issue Letters of Authorization (LOAs) to applicants conducting activities as described under the provisions of the regulations. This rule replaced a similar rule, published on August 3, 2011 (76 FR 47010), which expired on August 3, 2016, and likewise prescribed a process under which we issued such LOAs.

Each LOA stipulates conditions or methods that are specific to the activity and location. Holders of LOAs must use methods and conduct activities in a manner that minimizes to the greatest extent practicable adverse impacts on Pacific walruses and polar bears and their habitat, and on the availability of these marine mammals for subsistence purposes. Intentional take and lethal incidental take are prohibited.

In accordance with section 101(a)(5)(A) of the Marine Mammal Protection Act (MMPA; 16 U.S.C. 1361 et seq.) and our regulations at 50 CFR part 18, subpart J, we issued LOAs to each of the following companies in the Beaufort Sea and adjacent northern coast of Alaska:

Beaufort Sea Letters of Authorization
Company | Activity | Project | LOA No.
Shell Exploration and Production Company, Inc | Support services | Ice surveys and helicopter search and rescue training | 15-01
Brooks Range Petroleum Corporation | Development | 2015 Mustang Development Program | 15-02
Global Geophysical Services, Inc | Exploration | Winter seismic work | 15-03
Geokinetics, Inc | Exploration | Winter seismic work | 15-04
Repsol E and P USA, Inc | Exploration | Exploration drilling in the Colville River Delta | 15-05
BP Exploration (Alaska), Inc | Exploration | Winter seismic work | 15-06
ExxonMobil Development Company | Development | Point Thomson Project | 15-07, 16-06, 16-17
Hilcorp Alaska, LLC | Exploration | Liberty Geotech and Shallow Hazard Survey | 15-08
Caelus Energy Alaska, LLC | Development | Nuna Project | 15-09, 16-01, 16-12, 17-06
Olgoonik Specialty Contractors, LLC | Remediation | Point Lonely, Oliktok Point, and Bullen Point DEW line sites | 15-10
North Slope Borough | Production | Barrow pipeline upgrades | 15-12, 17-08
ConocoPhillips Alaska, Inc | Exploration | Greater Moose's Tooth | 15-15
ARSC Exploration, LLC | Exploration | Placer Unit exploratory drilling | 15-16
Peak Oilfield Service Company, LLC | Support services | Transportation activities on the North Slope | 15-17, 17-01
SAExploration, Inc | Exploration | Aklaq seismic surveys on Canning and Sag River | 15-18, 16-03
Caelus Energy Alaska, LLC | Exploration | Tulimaniq Exploration Program in Smith Bay | 15-19, 16-09_a
Geokinetics, Inc | Exploration | “Great Bear” 3d seismic on North Slope | 15-20
Alaska Frontier Constructors, Inc | Development | Gravel removal in the Sag River | 15-21
ExxonMobil Alaska, LNG, LLC | Exploration | Alaska LNG Project surveys | 16-02, 16-18
Marsh Creek, LLC | Remediation | Legacy wells-Cape Simpson, Iko Bay, Barrow, and Avak | 16-04, 16-21
ENI U.S. Operating Company, Inc | Development | Nakaitchuq North at Spy Island | 16-05
ConocoPhillips Alaska, Inc | Exploration | NPRA seismic exploration | 16-08
ConocoPhillips Alaska, Inc | Exploration | Exploration drilling | 16-09_b, 17-10
Fairweather, LLC | Exploration | Retrieval of mooring anchors in the Beaufort Sea | 16-10
Caelus Energy Alaska, LLC | Production | Oooguruk Project | 16-11
ConocoPhillips Alaska, Inc | Production | CPAI North Slope Alpine and Kuparuk | 16-13
BP Exploration (Alaska), Inc | Production | Prudhoe Bay | 16-14
Savant Alaska, LLC | Production | Badami Project | 16-15
Hilcorp Alaska, LLC | Production | Milne Point, Endicott, and Northstar Units | 16-16
Olgoonik Construction Services, LLC | Remediation | Barrow legacy wells | 16-19
ConocoPhillips Alaska, Inc | Development | GMT-1 Construction | 16-20, 17-09
Alyeska Pipeline Service Company | Production | TAPS activities | 16-22
Armstrong Energy, LLC | Exploration | Colville River Delta drilling and geotech | 16-23
BEM Systems, Incorporated | Remediation | Oliktok radar site | 17-03
BEM Systems, Incorporated | Remediation | Bullen Pt. radar site | 17-04
ConocoPhillips Alaska, Inc | Exploration | “Bear” Winter Seismic East of Colville River | 17-05
BP Exploration (Alaska), Inc | Exploration | 2017 Liberty Bathymetry Survey | 17-07

On June 12, 2013, we published in the Federal Register a final rule (78 FR 35364) establishing regulations that allow us to authorize the nonlethal, incidental, unintentional take of small numbers of polar bears and Pacific walruses during year-round oil and gas industry exploration activities in the Chukchi Sea and adjacent western coast of Alaska. The rule established 50 CFR part 18 subpart I and is effective until June 11, 2018. The process under which we issue LOAs to applicants and the requirements that the holders of LOAs must follow is the same as described above for LOAs issued under 50 CFR part 18, subpart J.

In accordance with section 101(a)(5)(A) of the MMPA and our regulations at 50 CFR 18, subpart I, we issued LOAs to the following companies in the Chukchi Sea:

Chukchi Sea Letters of Authorization
Company | Activity | Project | LOA No.
Shell Exploration and Production Company, Inc | Support services | 2015/2016 ice overflight surveys | 15-CS-01
Shell Exploration and Production Company, Inc | Exploration | Chukchi Sea exploration drilling | 15-CS-02
Fairweather, LLC | Exploration | Retrieval of Shell's mooring anchors in the Chukchi Sea | 16-CS-01
Olgoonik Fairweather, LLC | Exploration | Post Shell drillsite monitoring | 16-CS-02

Authority: We issue this notice under the authority of the MMPA (16 U.S.C. 1361 et seq.).

Dated: January 4, 2018.
Gregory E. Siekaniec,
Regional Director, Alaska Region.

Editorial note: This document was received for publication by the Office of the Federal Register on April 23, 2018.

[FR Doc. 2018-08759 Filed 4-25-18; 8:45 am]

BILLING CODE 433-15-P